POSTAL SERVICE

Board of Governors; Sunshine Act Meeting

TIME AND DATE: March 9, 2021, at 11:30 a.m.

PLACE: Washington, DC.

STATUS: Closed.

MATTERS TO BE CONSIDERED:

1. Compensation and Personnel Matters.

2. Administrative Items.

General Counsel Certification: The General Counsel of the United States Postal Service has certified that the meeting may be closed under the Government in the Sunshine Act.

CONTACT PERSON FOR MORE INFORMATION: Michael J. Elston, Secretary of the Board, U.S. Postal Service, 475 L'Enfant Plaza, SW, Washington, DC 20260-1000. Telephone: (202) 268-4800.

Michael J. Elston,
Secretary.

[FR Doc. 2021-05098 Filed 3-8-21; 4:15 pm]

BILLING CODE 7710-12-P